DEPARTMENT OF ENERGY

Federal Energy Regulatory Commission

[Docket No. CP25-497-000]

Northwest Pipeline, LLC; Notice of Schedule for the Preparation of an Environmental Assessment for the Wild Trail Project

On May 21, 2025, Northwest Pipeline, LLC (Northwest) filed an application in Docket No. CP25-497-000 requesting a Certificate of Public Convenience and Necessity pursuant to Section 7(c) of the Natural Gas Act for the Wild Trail Project (Project) in Daggett County, Utah. Northwest proposes to add an additional 51,955 dekatherms per day (Dth/d) of capacity of firm northbound transportation, as well as the full 25,000 Dth/d of existing southbound firm transportation, through the construction of the proposed new Daggett Compressor Station (Daggett CS). According to Northwest, the Project would restore and enhance system capability and reliability while supporting regional energy needs.

On June 4, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1755601449.

Schedule for Environmental Review

Issuance of EA—December 15, 2025

90-day Federal Authorization Decision Deadline ²—March 15, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would consist of the facilities and activities detailed below, all in Daggett County, Utah:

• construction of the Daggett CS, adjacent to the existing Clay Basin Meter Station (which would undergo minor modification);

• construction of one low nitrogen oxides-emitting gas-fired turbine compressor unit with 11,110 nominal horsepower;

• installation of 24-inch-diameter suction and discharge yard piping to interconnect the Daggett CS to Northwest's existing 26-inch-diameter Northwest Pipeline; and

• installation of auxiliary facilities to support the new compressor station, including utility buildings, an emergency generator, and a 140-foot-tall communication tower.

Background

On July 9, 2025, the Commission issued a Notice of Scoping Period Requesting Comments on Environmental Issues for the Proposed Wild Trail Project (Notice of Scoping). The Notice of Scoping was sent to affected landowners; federal, state, and local government agencies; elected officials; environmental and public interest groups; Native American tribes; other interested parties; and local libraries and newspapers. In response to the Notice of Scoping, the Commission received one comment from the Public Lands Policy Coordinating Office stating that the Project is within the Uintah Sage Grouse Management Area, as well as recommending that no new construction activities to take place between December 1 to April 15, in order to minimize the potential for disturbance to elk and pronghorn. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-497), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 29, 2025.
Debbie-Anne A. Reese,
Secretary.

[FR Doc. 2025-16953 Filed 9-3-25; 8:45 am]

BILLING CODE 6717-01-P